DEPARTMENT OF THE INTERIOR

Bureau of Land Management

[LLWY920000.19200000.ET0000.LRORK1405800.XXX; WYW-172386]

Public Land Order 7928; Permanent Withdrawal and Transfer of Jurisdiction, Wyoming

AGENCY: Bureau of Land Management, Interior.

ACTION: Public Land Order.

SUMMARY: This order permanently withdraws and transfers administrative jurisdiction of 869.08 acres of public lands and 3,454.39 acres of Federal mineral estate to the Department of Energy, Office of Legacy Management (DOE-LM) for its Split Rock Site in Wyoming pursuant to the authority under Title II of the Uranium Mill Tailings Radiation Control Act of 1978 (UMTRCA).

DATES: This Public Land Order takes effect on August 11, 2023.

FOR FURTHER INFORMATION CONTACT: Keesha Clay, Realty Specialist, BLM Wyoming State Office, (307) 775-6189, during regular business hours 8:00 a.m. to 4:30 p.m., Monday through Friday, except holidays. Individuals in the United States who are deaf, deafblind, hard of hearing, or have a speech disability may dial 711 (TTY, TDD, or TeleBraille) to access telecommunications relay services for contacting Ms. Clay. Individuals outside the United States should use the relay services offered within their country to make international calls to the point-of-contact in the United States.

SUPPLEMENTARY INFORMATION: The Secretary of the Interior is permanently withdrawing and transferring the subject Federal lands and minerals under UMTRCA, as amended by the Uranium Mill Tailings Remedial Action Amendments Act of 1988 (42 U.S.C. 7916), for the purpose of facilitating long term maintenance and monitoring of the Split Rock Uranium Tailing Cell Site by DOE-LM under applicable provisions of UMTRCA.

Order

By virtue of the authority vested in the Secretary of the Interior by the Uranium Mill Tailings Radiation Control Act of 1978 (42 U.S.C. 7916 (2000)), as amended, it is ordered as follows:

1. Subject to valid existing rights, the following described public lands and reserved public minerals are hereby permanently withdrawn from settlement, sale, location, and entry under the general land laws, including the United States mining laws, mineral and geothermal leasing laws, and disposal under the mineral materials laws, and jurisdiction over such lands and minerals is hereby permanently transferred to the United States DOE-LM to administer them in perpetuity as a hazardous material site under the authority of the UMTRCA of 1978, Public Law 95-604, 92 Stat. 3021, as amended, as the Split Rock Uranium Tailing Cell Site:

Public Lands

Sixth Principal Meridian, Wyoming

T. 29 N., R. 91 W.,

sec. 6, lots 8 thru 13 and E½SE¼;

sec. 7, N½NE¼;

sec. 8, NW¼NW¼.

T. 29 N., R. 92 W.,

sec. 1, lots 1 and 2, S½NE¼, and SE¼SE¼;

sec. 2, SE¼SW¼ and SW¼SE¼;

sec. 11, NW¼NE¼ and NE¼NW¼;

sec. 12, W½NE¼.

The areas described aggregate 869.08 acres of surface and Federal minerals.

Federal Mineral Interests Underlying Non-Federal Surface

T. 29 N., R. 91 W.

sec. 5, S½;

sec. 6, lot 5, SE¼NW¼, and SW¼SE¼;

sec. 7, lots 1 thru 4, S½NE¼, E½NW¼, E½SW¼, and SE¼;

sec. 8, E½NE¼, SW¼NW¼, and W½SW¼;

sec. 18, lots 1 and 2 and E½NW¼, those portions lying northerly of the northerly right-of-way boundary of U.S. Highway 287, as described on Document No. 2009-1328633, filed October 19, 2009, in the Fremont County Clerk's Office.

T. 29 N., R. 92 W.,

sec. 1, lot 4, SW¼, and W½SE¼;

sec. 2, SW¼SW¼, NE¼SW¼, N½SE¼, and SE¼SE¼;

sec. 3, E½SE¼;

sec. 10, E½SE¼, that portion lying northerly of the northerly boundary of the Home on the Range Estates Subdivision, Document No. 970395, filed March 8, 1978, in the Fremont County Clerk's Office;

sec. 11, NE¼NE¼, S½NE¼, SE¼NW¼, and S½, except that portion of SW¼SW¼ within said Home on the Range Subdivision;

sec. 12, E½NE¼, NW¼, and S½;

sec. 13, N½;

sec. 14, NE¼ and NE¼NW¼.

The areas described aggregate approximately 3,454.39 acres of Federal minerals underlying non-Federal surface.

2. DOE-LM has acknowledged that segments of four National Historic Trails are present within the project area. The transfer of administrative jurisdiction does not invalidate or revoke the congressionally designated alignments of the National Historic Trails across the property; the National Park Service continues to coordinate trail-wide administration.

(Authority: 42 U.S.C. 7916.)

Shannon A. Estenoz,
Assistant Secretary for Fish and Wildlife and Parks.

[FR Doc. 2023-17230 Filed 8-10-23; 8:45 am]

BILLING CODE 6450-01-P